DEPARTMENT OF HEALTH AND HUMAN SERVICES

Health Resources and Services Administration

Notice of Supplemental Funding; Rural Residency Planning and Development Technical Assistance

AGENCY: Health Resources and Services Administration (HRSA), Department of Health and Human Services.

ACTION: Notice of supplemental funding.

SUMMARY: HRSA provided supplemental funds to the Rural Residency Planning and Development (RRPD-TA) recipient under HRSA-25-008 to provide additional technical assistance on rural residency program development and support the improvement of health care in rural areas.

FOR FURTHER INFORMATION CONTACT: Jason Steele, RRPD Program Coordinator, Federal Office of Rural Health Policy, HRSA, at ruralresidency@hrsa.gov and 301-443-2203.

SUPPLEMENTARY INFORMATION:

Recipient of the Award: The University of North Carolina at Chapel Hill.

Amount of Non-Competitive Award: One award for $600,000.

Project Period: September 30, 2025, to September 29, 2030.

Assistance Listing Number: 93.155.

Award Instrument: Cooperative Agreement Supplement.

Authority: Section 711(b)(5) of the Social Security Act (42 U.S.C. 912(b)(5)).

Table 1—Recipient and Award Amount
Grant No. | Award recipient name | City, state | Supplemental award amount
UK6RH32513 | University of North Carolina at Chapel Hill | Chapel Hill, NC | $600,000

Justification: This funding provides a one-time supplement to the University of North Carolina at Chapel Hill through the RRPD-TA Cooperative Agreement. This supplement will allow the University of North Carolina at Chapel Hill to build on past and ongoing projects supported by HRSA to support health care in rural areas by providing additional technical assistance to developing and recently established rural residency programs. The University of North Carolina at Chapel Hill is the recipient of the only award under the RRPD-TA program and has established relationships with rural stakeholders and has longstanding experience developing resources to support development of rural residency programs. The supplement to the RRPD-TA Cooperative Agreement will allow the University of North Carolina at Chapel Hill to provide additional technical assistance tools and resources to create and sustain new rural residency programs that will expand the rural physician workforce.

Thomas J. Engels,
Administrator.

[FR Doc. 2025-20094 Filed 11-17-25; 8:45 am]

BILLING CODE 4165-15-P